Title 3—

The President

Proclamation 8207 of November 29, 2007

World AIDS Day, 2007

By the President of the United States of America

A Proclamation

On World AIDS Day, we reaffirm our commitment to fighting and preventing HIV/AIDS in America and around the world. We also remember those who have lost their lives to this terrible disease and those who continue to suffer.

HIV/AIDS is a global challenge. In 2003, my Administration launched the President's Emergency Plan for AIDS Relief (PEPFAR), a $15 billion mobilization, to help support prevention, treatment, and care programs in some of the hardest hit countries around the world. PEPFAR's ABC approach—abstinence, being faithful, and using condoms—with abstinence as the only sure way to avoid the sexual transmission of HIV/AIDS, is helping stop the spread of this devastating disease.

In the United States as well, HIV/AIDS affects too many of our families, neighbors, and friends. We continue to fund research to develop new methods of treatment and prevention, and to emphasize voluntary HIV screening as a routine part of health care. The Ryan White CARE Act has provided Americans in need with better access to medical care, antiretroviral treatments, and counseling. With medicine, support, and their own daily courage, many citizens are managing a condition that was once often fatal.

The pandemic of HIV/AIDS can be defeated. The United States is taking the lead in this great effort, and we stand united with our international partners in combating this virus. We also recognize the essential role that faith-based and community organizations play in providing support and compassion to those living with the disease. By working together, we can give hope and comfort to millions.

NOW, THEREFORE, I, GEORGE W. BUSH, President of the United States of America, by virtue of the authority vested in me by the Constitution and laws of the United States, do hereby proclaim December 1, 2007, as World AIDS Day. On this day and throughout the year, the red ribbon helps raise awareness of the importance of fighting HIV/AIDS. This year, the White House will display this symbol from the North Portico to represent America's commitment to this struggle. I urge the Governors of the States and the Commonwealth of Puerto Rico, officials of the other territories subject to the jurisdiction of the United States, and the American people to join me in appropriate activities to remember those who have lost their lives to AIDS and to provide support and comfort to those living with this disease.

IN WITNESS WHEREOF, I have hereunto set my hand this twenty-ninth day of November, in the year of our Lord two thousand seven, and of the Independence of the United States of America the two hundred and thirty-second.

[FR Doc. 07-5934

Filed 12-3-07; 8:45 am]

Billing code 3195-01-P